DEPARTMENT OF COMMERCE

International Trade Administration

[A-427-814]

Notice of Extension of Time Limit of Preliminary Results of Antidumping Duty Administrative Review: Stainless Steel Sheet and Strip in Coils from France

AGENCY: Import Administration, International Trade Administration, Department of Commerce.

EFFECTIVE DATE: February 19, 2002.

FOR FURTHER INFORMATION CONTACT: Alex Villanueva, AD/CVD Enforcement Group III, Office 9, Import Administration, International Trade Administration, U.S. Department of Commerce, 14th Street and Constitution Avenue, N.W., Washington, D.C. 20230; telephone: (202) 482-0408.

SUPPLEMENTARY INFORMATION:

The Applicable Statute

Unless otherwise indicated, all citations to the Tariff Act of 1930, as amended (the Act) are to the provisions effective January 1, 1995, the effective date of the amendments made to the Act by the Uruguay Round Agreements Act. In addition, unless otherwise indicated, all citations to the Department of Commerce's (the Department's) regulations are to 19 CFR part 351 (April 2001).

Background

On October 1, 2001, the Department published a notice of initiation of the administrative review of the antidumping duty order on Stainless Steel Sheet and Strip in Coils from France, covering the period July 1, 2000, through June 30, 2001 (66 FR 49924). The preliminary results are currently due no later than April 2, 2002.

Extension of Time Limit for Preliminary Results

Section 751(a)(3)(A) of the Act states that the administering authority shall make a preliminary determination within 245 days after the last day of the month in which occurs the anniversary of the date of publication of the order, finding, or suspension agreement for which the review under paragraph (1) is requested. If it is not practicable to complete the review within the foregoing time, the administering authority may extend that 245 day period to 365 days. Completion of the preliminary results within the 245 day period is impracticable for the following reasons: (1) This review involves certain complex issues (e.g., home market downstream sales); (2) this review involves certain complex U.S. further manufacturing; (3) the corporate structure has changed from previous administrative reviews which affects several calculations including, but not limited to, warehouse expenses, inland freight, and inventory. See also 19 CFR 351.213(h)(2).

Because it is not practicable to complete this review within the time specified, we are extending the time limit of the preliminary results of the administrative review of stainless steel sheet and strip in coils from France by 120 days, in accordance with section 751(a)(3)(A) of the Act.

The deadline for issuing the preliminary results is extended from April 2, 2002, to July 31, 2002.

February 12, 2002
Joseph A. Spetrini,
Deputy Assistant Secretary for Import Administration, Group III.

[FR Doc. 02-3969 Filed 2-15-02; 8:45 am]

BILLING CODE 3510-DS-S